INTERNATIONAL TRADE COMMISSION

[Investigation No. 337-TA-1445]

Certain Video Game Consoles, Routers and Gateways, and Components Thereof; Notice of a Commission Determination Not To Review an Initial Determination Terminating the Investigation Based on Settlement; Termination of Investigation

AGENCY: U.S. International Trade Commission.

ACTION: Notice.

SUMMARY: Notice is hereby given that the U.S. International Trade Commission (“Commission”) has determined not to review an initial determination (“ID”) (Order No. 24) of the presiding administrative law judge (“ALJ”) granting the complainant's motion to terminate the above-captioned investigation based on settlement. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 27, 2025, based on a complaint filed by AX Wireless, LLC of Austin, Texas (“Complainant”). 90 FR 13879-80 (Mar. 27, 2025). The complaint, as supplemented, alleges violations of section 337 of the Tariff Act of 1930, as amended, 19 U.S.C. 1337, in the importation into the United States, the sale for importation, or the sale within the United States after importation of certain video game consoles, routers and gateways, and components thereof by reason of the infringement of certain claims of U.S. Patent Nos. 10,917,272; 11,646,927; 11,777,776; and 12,063,134. Id. The complaint further alleges that a domestic industry exists. Id. The Commission's notice of investigation names four respondents, including: Sony Interactive Entertainment Inc. of Tokyo, Japan and Sony Interactive Entertainment LLC of San Mateo, California (collectively, “Sony”); Vantiva SA of Paris, France; and Vantiva USA, LLC of Norcross, Georgia. Id. The Office of Unfair Import Investigations (“OUII”) is participating in the investigation. Id.

The Commission previously terminated Vantiva SA and Vantiva USA, LLC based on settlement. Order No. 20 (Aug. 28, 2025), unreviewed by Comm'n Notice (Sept. 18, 2025).

On September 25, 2025, Complainant filed an unopposed motion for termination of this investigation in its entirety based on a settlement agreement between Complainant and Sony. On September 26, 2025, Complainant filed a corrected version of its motion that attached the settlement, which was inadvertently not attached to the original motion. On September 29, 2025, OUII filed a response in support of the motion. No other responses to the motion were filed.

On September 29, 2025, the presiding ALJ issued the subject ID granting the unopposed motion to terminate the investigation in its entirety. See Order No. 24 (Sept. 29, 2025). The subject ID finds that the motion complies with Commission Rule 210.21(b)(1) (19 CFR 210.21(b)) and that no extraordinary circumstances prevent granting the motion. The subject ID also finds that termination based on settlement would not be contrary to the public interest.

No party petitioned for review of the subject ID.

The Commission has determined not to review the subject ID (Order No. 24). The investigation is terminated.

The Commission vote for this determination took place on December 5, 2025.

The authority for the Commission's determination is contained in section 337 of the Tariff Act of 1930, as amended (19 U.S.C. 1337), and in Part 210 of the Commission's Rules of Practice and Procedure (19 CFR part 210).

By order of the Commission.
Issued: December 5, 2025.
Lisa Barton,
Secretary to the Commission.

[FR Doc. 2025-22407 Filed 12-9-25; 8:45 am]

BILLING CODE 7020-02-P